DEPARTMENT OF THE INTERIOR

Fish and Wildlife Service

50 CFR Part 17

[FWS-R8-ES-2012-N073; FF0800000-FXES11130800000C4-123]

Endangered and Threatened Wildlife and Plants; 5-Year Reviews of Species in California and Nevada

AGENCY: Fish and Wildlife Service, Interior.

ACTION: Notice of 5-year reviews.

SUMMARY: We, the U.S. Fish and Wildlife Service, are initiating 5-year reviews for 25 species under the Endangered Species Act of 1973, as amended (Act). We conduct these reviews to ensure that our classification of species on the Lists of Endangered and Threatened Wildlife and Plants as threatened or endangered is accurate. A 5-year review assesses the best scientific and commercial data available at the time of the review. We are requesting any information that has become available since our last 5-year review of each of these species. Based on review results, we will determine whether we should change the listing status of any of these species. In this notice, we also announce 5-year reviews that were completed for 28 species in California and Nevada between March 17, 2011, and February 29, 2012.

DATES: To ensure consideration, please send your written information by June 26, 2012.

ADDRESSES: For how and where to send comments or information, see “VIII., Contacts.”

FOR FURTHER INFORMATION CONTACT: For species-specific information, contact the appropriate person listed under “VIII., Contacts.” For contact information about completed 5-year reviews, see “IX., Completed 5-Year Reviews.” Individuals who are hearing-impaired or speech-impaired may call the Federal Relay Service at (800) 877-8337 for TTY assistance.

SUPPLEMENTARY INFORMATION:

I. Why do we conduct 5-year reviews?

Under the Act (16 U.S.C. 1531 et seq.), we maintain Lists of Endangered and Threatened Wildlife and Plants (which we collectively refer to as the List) in the Code of Federal Regulations (CFR) at 50 CFR 17.11 (for animals) and 17.12 (for plants). Section 4(c)(2)(A) of the Act requires us to review each listed species' status at least once every 5 years. Then, under section 4(c)(2)(B), we determine whether to remove any species from the List (delist), to reclassify it from endangered to threatened, or to reclassify it from threatened to endangered. Any change in Federal classification requires a separate rulemaking process.

In classifying, we use the following definitions, from 50 CFR 424.02:

(A) Species includes any species or subspecies of fish, wildlife, or plant, and any distinct population segment of any species of vertebrate, that interbreeds when mature;

(B) Endangered species means any species that is in danger of extinction throughout all or a significant portion of its range; and

(C) Threatened species means any species that is likely to become an endangered species within the foreseeable future throughout all or a significant portion of its range.

We must support delisting by the best scientific and commercial data available, and only consider delisting if data substantiate that the species is neither endangered nor threatened for one or more of the following reasons (50 CFR 424.11(d)):

(A) The species is considered extinct;

(B) The species is considered to be recovered; or

(C) The original data available when the species was listed, or the interpretation of data, were in error.

Our regulations at 50 CFR 424.21 require that we publish a notice in the Federal Register announcing the species we are reviewing.

II. What species are under review?

This notice announces our active 5-year status reviews of the species in Table 1.

Table 1—Current Listing Status of Species Under 5-Year Status Review, Including 5 Animal Species and 20 Plant Species in California and Nevada
Common name | Scientific name | Status | Where listed | Final listing rule
ANIMALS
Independence Valley speckled dace | Rhinichthys osculus lethoporus | Endangered | U.S.A. (NV) | October 10, 1989 (54 FR 41448).
Paiute cutthroat trout | Oncorhynchus clarki seleniris | Threatened | U.S.A. (CA) | July 16, 1975 (40 FR 29863).
Riverside fairy shrimp | Streptocephalus woottoni | Endangered | U.S.A. (CA) | August 3, 1993 (58 FR 41384).
San Diego fairy shrimp | Branchinecta sandiegonensis | Endangered | U.S.A. (CA) | February, 3 1997 (62 FR 4925).
Sierra Nevada bighorn sheep | Ovis canadensis sierrae | Threatened | U.S.A. (CA) | January 3, 2000 (65 FR 20).
PLANTS
Ben Lomond wallflower | Erysimum teretifolium | Endangered | U.S.A. (CA) | February 4, 1994 (59 FR 5499).
Burke's goldfields | Lasthenia burkei | Endangered | U.S.A. (CA) | December 2, 1991 (56 FR 61173).
Butte County meadowfoam | Limnanthes floccosa subsp. californica | Endangered | U.S.A. (CA) | June 8, 1992 (57 FR 24192).
Colusa grass | Neostapfia colusana | Threatened | U.S.A. (CA) | March 26, 1997 (62 FR 14338).
Contra Costa goldfields | Lasthenia conjugens | Endangered | U.S.A. (CA) | June 18, 1997 (62 FR 33029).
Few-flowered navarretia | Navarretia leucocephala subsp. pauciflora | Endangered | U.S.A. (CA) | June 18, 1997 (62 FR 33029).
Greene's tuctoria | Tuctoria greenei | Endangered | U.S.A. (CA) | March 26, 1997 (62 FR 14338).
Island barberry | Berberis pinnata subsp. insularis | Endangered | U.S.A. (CA) | July 31, 1997 (62 FR 40954).
Island phacelia | Phacelia insulars var. insularis | Endangered | U.S.A. (CA) | July 31, 1997 (62 FR 40954).
Lyon's pentachaeta | Pentachaeta lyonii | Endangered | U.S.A. (CA) | January 29, 1997 (62 FR 4172).
Marsh sandwort | Arenaria paludicola | Endangered | U.S.A. (CA) | August 3, 1993 (58 FR 41378).
Menzies' wallflower | Erysimum menziesii | Endangered | U.S.A. (CA) | June 22, 1992 (50 FR 27848).
Peirson's milk-vetch | Astragalus magdalenae var. peirsonii | Threatened | U.S.A. (CA) | October 6, 1998 (63 FR 53596).
Purple amole | Chlorogalum purpureum | Threatened | U.S.A. (CA) | March 20, 2000 (65 FR 14878).
Sacramento Orcutt grass | Orcuttia viscida | Endangered | U.S.A. (CA) | March 28, 1997 (62 FR 14338).
San Bernardino bluegrass | Poa atropurpurea | Endangered | U.S.A. (CA) | September 14, 1998 (63 FR 49006).
Sebastopol meadowfoam | Limnanthes vinculans | Endangered | U.S.A. (CA) | December 2, 1991 (56 FR 61173).
Sonoma sunshine | Blennosperma bakeri | Endangered | U.S.A. (CA) | December 2, 1991 (56 FR 61173).
Vail Lake ceanothus | Ceanothus ophiochilus | Threatened | U.S.A. (CA) | October 13, 1998 (63 FR 54956).
Willowy monardella | Monardella viminea | Endangered | U.S.A. (CA) | October 13, 1998 (63 FR 54938).

III. What information do we consider in our review?

We consider all new information available at the time we conduct a 5-year status review. We consider the best scientific and commercial data that has become available since our current listing determination or most recent status review, such as:

(A) Species biology, including but not limited to population trends, distribution, abundance, demographics, and genetics;

(B) Habitat conditions, including but not limited to amount, distribution, and suitability;

(C) Conservation measures that have been implemented that benefit the species;

(D) Threat status and trends (see five factors under heading “IV., How Do We Determine Whether a Species Is Endangered or Threatened?”); and

(E) Other new information, data, or corrections, including but not limited to taxonomic or nomenclatural changes, identification of erroneous information contained in the List, and improved analytical methods.

We specifically request information regarding data from any systematic surveys, as well as any studies or analysis of data that may show population size or trends; information pertaining to the biology or ecology of these species; information regarding the effects of current land management on population distribution and abundance; information on the current condition of habitat; and recent information regarding conservation measures that have been implemented to benefit the species. Additionally, we specifically request information regarding the current distribution of populations and evaluation of threats faced by the species in relation to the five listing factors (as defined below and in section 4(a)(1) of the Act) and the species' listed status as judged against the definition of threatened or endangered. Finally, we request recommendations pertaining to the development of, or potential updates to, recovery plans and additional actions or studies that would benefit these species in the future.

IV. How do we determine whether a species is endangered or threatened?

Section 4(a)(1) of the Act requires that we determine whether a species is endangered or threatened based on one or more of the five following factors:

(A) The present or threatened destruction, modification, or curtailment of its habitat or range;

(B) Overutilization for commercial, recreational, scientific, or educational purposes;

(C) Disease or predation;

(D) The inadequacy of existing regulatory mechanisms; or

(E) Other natural or manmade factors affecting its continued existence.

Under section 4(b)(1) of the Act, we must base our assessment of these factors solely on the best scientific and commercial data available.

V. What could happen as a result of our review?

For each species under review, if we find new information that indicates a change in classification may be warranted, we may propose a new rule that could do one of the following:

(A) Reclassify the species from threatened to endangered (uplist);

(B) Reclassify the species from endangered to threatened (downlist); or

(C) Remove the species from the List (delist).

If we determine that a change in classification is not warranted, then the species remains on the List under its current status.

VI. Request for New Information

To ensure that a 5-year review is complete and based on the best available scientific and commercial information, we request new information from all sources. See “III., What Information Do We Consider in Our Review?” for specific criteria. If you submit information, support it with documentation such as maps, bibliographic references, methods used to gather and analyze the data, and/or copies of any pertinent publications, reports, or letters by knowledgeable sources.

Submit your comments and materials to the appropriate Fish and Wildlife Office listed under “VIII., Contacts.”

VII. Public Availability of Comments

Before including your address, phone number, email address, or other personal identifying information in your comment, you should be aware that your entire comment—including your personal identifying information—may be made publicly available at any time. While you can ask us in your comment to withhold your personal identifying information from public review, we cannot guarantee that we will be able to do so. Comments and materials received will be available for public inspection, by appointment, during normal business hours at the offices where the comments are submitted.

VIII. Contacts

Send your comments and information on the following species, as well as requests for information, to the corresponding contacts/addresses. You may view information we receive in response to this notice, as well as other documentation in our files, at the following locations by appointment, during normal business hours.

For the Menzies' wallflower, send information to Field Supervisor, Attention: 5-Year Review, U.S. Fish and Wildlife Service, Arcata Fish and Wildlife Office, 1655 Heindon Road, Arcata, CA 95521. Information may also be submitted electronically at arcata@fws.gov. To obtain further information, contact Kathleen Brubaker at (707) 822-7201.

For the Peirson's milk-vetch, Riverside fairy shrimp, San Bernardino bluegrass, San Diego fairy shrimp, Vail Lake ceanothus, and Willowy monardella, send information to Field Supervisor, Attention: 5-Year Review, U.S. Fish and Wildlife Service, Carlsbad Fish and Wildlife Office, 6010 Hidden Valley Road, Suite 101, Carlsbad, CA 92011. Information may also be submitted electronically at fw8cfwocomments@fws.gov. To obtain further information, contact Bradd Baskerville-Bridges at the Carlsbad Fish and Wildlife Office at (760) 431-9440.

For the Independence Valley speckled dace and Paiute cutthroat trout, send information to State Supervisor, Attention: 5-Year Review, U.S. Fish and Wildlife Service, Nevada Fish and Wildlife Office, 1340 Financial Blvd., Suite 234, Reno, Nevada 89502-7147. Information may also be submitted electronically at fw1nfwo_5yr@fws.gov. To obtain further information, contact Jill Ralston at the Nevada Fish and Wildlife Office at (775) 861-6300.

For the Burke's goldfields, Butte County meadowfoam, Colusa grass, Contra Costa goldfields, few-flowered navarretia, Greene's tuctoria, Sacramento Orcutt grass, Sebastopol meadowfoam, and Sonoma sunshine, send information to Field Supervisor, Attention: 5-Year Review, U.S. Fish and Wildlife Service, Sacramento Fish and Wildlife Office, 2800 Cottage Way, Room W-2605, Sacramento, CA 95825. Information may also be submitted electronically at fw1sfo5year@fws.gov. To obtain further information, contact Josh Hull at the Sacramento Fish and Wildlife Office at (916) 414-6600.

For the Ben Lomond wallflower, island barberry, island phacelia, Lyon's pentachaeta, marsh sandwort, purple amole, and Sierra Nevada bighorn sheep, send information to Field Supervisor, Attention: 5-Year Review, U.S. Fish and Wildlife Service, Ventura Fish and Wildlife Office, 2493 Portola Road, Suite B, Ventura, CA 93003. Information may also be submitted electronically at fw8vfwo5year@fws.gov. To obtain further information on the animal species, contact Mike McCrary at the Ventura Fish and Wildlife Office at (805) 644-1766. To obtain further information on the plant species, contact Connie Rutherford at the Ventura Fish and Wildlife Office at (805) 644-1766.

All electronic information must be submitted in Text format or Rich Text format. Include the following identifier in the subject line of the email: Information on 5-year review for [NAME OF SPECIES], and include your name and return address in the body of your message.

IX. Completed 5-Year Reviews

We also take this opportunity to inform the public of 5-year reviews that we completed between March 17, 2011, and February 29, 2012, for 28 species in California and Nevada (Table 2). Reviews for these 28 species can be found at http://www.fws.gov/endangered/species/index.html. Any recommended change in listing status resulting from these completed reviews will require a separate rulemaking process.

Table 2—Summary of 28 Species in California and Nevada for Which 5-Year Reviews Were Completed Between March 17, 2011 and February 29, 2012
Common name | Scientific name | Recommendation | Lead fish and wildlife office | Contact
ANIMALS
Alameda whipsnake (=striped racer) | Masticophis lateralis euryxanthus | No status change | Sacramento | Josh Hull, (916) 414-6600.
Buena Vista Lake shrew | Sorex ornatus relictus | No status change | Sacramento | Josh Hull, (916) 414-6600.
California freshwater shrimp | Syncaris pacifica | No status change | Sacramento | Josh Hull, (916) 414-6600.
Little Kern golden trout | Oncorhynchus aguabonita whitei | No status change | Sacramento | Josh Hull, (916) 414-6600.
Lotis blue butterfly | Lycaeides argyrognomon lotis | No status change | Arcata | Kathleen Brubaker, (707) 822-7201.
Morro Bay kangaroo rat | Dipodomys heermanni morroensis | No status change | Ventura | Mike McCrary, (805) 644-1766.
Peninsular bighorn sheep | Ovis Canadensis | No status change | Carlsbad | Bradd Baskerville-Bridges, (760) 431-9440.
Stephens' kangaroo rat | Dipodomys stephensi | Downlist | Carlsbad | Bradd Baskerville-Bridges, (760) 431-9440.
PLANTS
Ash Meadows sunray | Enceliopsis nudicaulis var. corrugata | No status change | Nevada | Jill Ralston, (775) 861-6300.
Bakersfield cactus | Opuntia treleasei | No status change | Sacramento | Josh Hull, (916) 414-6600.
Beach layia | Layia carnosa | Downlist | Arcata | Kathleen Brubaker, (707) 822-7201.
Ben Lomond spineflower | Chorizanthe pungens var. hartwegiana | No status change | Ventura | Connie Rutherford, (805) 644-1766.
Coyote ceanothus | Ceanothus ferrisae | No status change | Sacramento | Josh Hull, (916) 414-6600.
Encinitas baccharis | Baccharis vanessae | No status change | Carlsbad | Bradd Baskerville-Bridges, (760) 431-9440.
Fleshy owl's-clover | Castilleja campestris subsp. succulenta | No status change | Sacramento | Josh Hull, (916) 414-6600.
Gambel's watercress | Nasturtium gambelii | No status change | Ventura | Connie Rutherford, (805) 644-1766.
Gaviota tarplant | Deinandra increscens subsp. villosa | No status change | Ventura | Connie Rutherford, (805) 644-1766.
Hoffmann's rock-cress | Arabis hoffmannii | No status change | Ventura | Connie Rutherford, (805) 644-1766.
Howell's spineflower | Chorizanthe howellii | No status change | Arcata | Kathleen Brubaker, (707) 822-7201.
Kneeland prairie pennycress | Thlaspi californicum | No status change | Arcata | Kathleen Brubaker, (707) 822-7201.
Marin dwarf-flax | Hesperolinon congestum | No status change | Sacramento | Josh Hull, (916) 414-6600.
Pedate checkermallow | Sidalcea pedata | No status change | Carlsbad | Bradd Baskerville-Bridges, (760) 431-9440.
Pennell's bird's-beak | Cordylanthus tenuis subsp. capillaris | No status change | Sacramento | Josh Hull, (916) 414-6600.
San Mateo woolly sunflower | Eriophyllum latilobum | No status change | Sacramento | Josh Hull, (916) 414-6600.
Sonoma alopecurus | Alopecurus aequalis var.sonomensis | No status change | Sacramento | Josh Hull, (916) 414-6600.
Tiburon mariposa lily | Calochortus tiburonensis | No status change | Sacramento | Josh Hull, (916) 414-6600.
Vine Hill clarkia | Clarkia imbricata | No status change | Sacramento | Josh Hull, (916) 414-6600.
Yellow larkspur | Delphinium luteum | No status change | Sacramento | Josh Hull, (916) 414-6600.

X. Authority

We publish this notice under the authority of the Endangered Species Act of 1973, as amended (16 U.S.C. 1531 et seq.).

Dated: March 30, 2012.
Margaret T. Kolar,
Acting Regional Director, Pacific Southwest Region, U.S. Fish and Wildlife Service.

[FR Doc. 2012-10212 Filed 4-26-12; 8:45 am]

BILLING CODE 4310-55-P